FEDERAL ACCOUNTING STANDARDS ADVISORY BOARD

Notice of Meeting Schedule

AGENCY: Federal Accounting Standards Advisory Board.

ACTION: Notice of Federal Advisory Committee meetings.

Board Action: Pursuant to 31 U.S.C. 3511(d), the Federal Advisory Committee Act, as amended (5 U.S.C. App.), and the FASAB Rules of Procedure, as amended in October, 2010, notice is hereby given that the Federal Accounting Standards Advisory Board (FASAB) will hold its meetings on the following dates unless otherwise noted.

December 20 and 21, 2017

February 21 and 22, 2018

April 25 and 26, 2018

June 27 and 28, 2018

August 29 and 30, 2018

October 24 and 25, 2018

December 19 and 20, 2018

A portion of each meeting may be closed to the public. The purpose of the meetings is to discuss issues related to:

Accounting and Reporting of Government Land

Classified Activities

Department of Defense Implementation Guidance Request

Evaluation of Existing Standards

Leases

Note Disclosures

Risk Assumed

Any other topics as needed

Unless otherwise noted, FASAB meetings begin at 9 a.m. and conclude before 5 p.m. and are held at the U.S. Government Accountability Office (GAO) Building at 441 G St. NW., in Room 7C13. Agendas and briefing materials will be available at http://www.fasab.gov/briefing-materials/approximately one week before each meeting.

Any interested person may attend the meetings as an observer. Board discussion and reviews are open to the public except for those portions that are closed, as discussed below. GAO Building security requires advance notice of your attendance. If you wish to attend a FASAB meeting, please pre-register on our Web site at http://www.fasab.gov/pre-registration/ no later than 8 a.m. the Tuesday before the meeting to be observed.

FOR FURTHER INFORMATION CONTACT: Wendy Payne, FASAB Executive Director, 441 G Street NW., Mailstop 6H19, Washington, DC 20548, or call (202) 512-7350.

SUPPLEMENTARY INFORMATION: Notice is hereby given that FASAB may meet in closed session for a portion of each of its scheduled meetings listed above. Any closed session will not exceed five hours at each meeting. The reason for the closures is that matters covered by 5 U.S.C. 552b(c)(1) will be discussed. The discussions will involve matters of national defense that have been classified by appropriate authorities pursuant to Executive Order. A determination has been made in writing by the U.S. Government Accountability Office, the U.S. Department of the Treasury, and the Office of Management and Budget, as required by section 10(d) of the Federal Advisory Committee Act, 5 U.S.C. App., that such portions of the meetings may be closed to the public in accordance with subsection (c) of section 552b of title 5, United States Code.

Authority: Federal Advisory Committee Act (5 U.S.C. App.), Government in the Sunshine Act (5 U.S.C. 552b).

Dated: December 1, 2017.
Wendy M. Payne,
Executive Director.

[FR Doc. 2017-26397 Filed 12-6-17; 8:45 am]

BILLING CODE 1610-02-P